DEPARTMENT OF JUSTICE

Notice of Lodging of Proposed First Amendment to Consent Decree Under the Clean Air Act

On April 6, 2023, the Department of Justice lodged a proposed First Amendment to Consent Decree with the United States District Court for the Northern District of Indiana in the lawsuit entitled United States v. City of Gary, Indiana, Civil Action No. 20-cv-386.

The Complaint in the United States' lawsuit sought civil penalties and injunctive relief for alleged violations of the Clean Air Act (“CAA”) relating to a closed landfill owned and operated by the City of Gary, Indiana (“Gary” or “City”). The Complaint alleged that Gary: (1) violated its permit and the CAA by failing to install a compliant gas collection and control system; (2) failed to properly operate its current system; (3) violated the landfill's surface methane standard; (4) failed to monitor proper operation of its flares; and (5) failed to demonstrate compliance with its gas collection wellhead standards.

A Consent Decree resolving the claims in the Complaint was entered by the Court on January 5, 2021. Under the Consent Decree, Gary is required to take a number of measures to come into compliance with the CAA. Gary must undertake a suite of improvements to Gary's gas collection and control system, including replacement of the existing flare and system upgrades to actively collect, rather than passively vent, landfill gas. Gary is also required to carry out enhanced monitoring and maintenance requirements and follow certain standard operating procedures, attached to the Consent Decree as appendices.

In August 2022, Gary formally made a request to amend the Consent Decree and extend the GCCS deadline, citing unforeseen design changes, delays in receiving permit approvals, supply chain issues, and unavoidable delays in the bid process for the project. The proposed First Amendment to Consent Decree extends the deadline for Gary to complete its GCCS improvements from October 27, 2022, to October 27, 2023. In the interim, the Amendment requires Gary to more frequently monitor surface methane and implement corrective action if methane concentrations reach a trigger level; improve record-keeping for cover integrity repairs; and investigate and propose an additional corrective action for a portion of the landfill experiencing high methane readings.

The publication of this notice opens a period for public comment on the First Amendment to Consent Decree. Comments should be addressed to the Assistant Attorney General, Environment and Natural Resources Division, and should refer to United States v. City of Gary, Indiana, D.J. Ref. No. 90-5-2-1-11714. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Amendment to Consent Decree may be examined and downloaded at this Justice Department website: https://www.justice.gov/enrd/consent-decrees. We will provide a paper copy of the First Amendment to Consent Decree upon written request and payment of reproduction costs. Please mail your request and payment to: Consent Decree Library, U.S. DOJ—ENRD, P.O. Box 7611, Washington, DC 20044-7611.

Please enclose a check or money order for $2.50 (25 cents per page reproduction cost) payable to the United States Treasury.

Patricia McKenna,
Assistant Section Chief, Environmental Enforcement Section, Environment and Natural Resources Division.

[FR Doc. 2023-07642 Filed 4-11-23; 8:45 am]

BILLING CODE 4410-15-P